DEPARTMENT OF COMMERCE

Foreign-Trade Zones Board

[B-38-2024]

Foreign-Trade Zone (FTZ) 265, Notification of Proposed Production Activity; Unimacts Company; (Steel Products); Conroe, Texas

The City of Conroe, grantee of FTZ 265, submitted a notification of proposed production activity to the FTZ Board (the Board) on behalf of Unimacts Company (Unimacts) for Unimacts's facility in Conroe, Texas within FTZ 265. The notification conforming to the requirements of the Board's regulations (15 CFR 400.22) was received on July 3, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: machined structural “H” shaped steel supports and structural steel support machined tubes (duty-free).

The proposed foreign-status materials/components include: flat-rolled steel of varying thicknesses and steel shape “H” of varying weights (duty-free). The request indicates that certain materials/components may be subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is August 26, 2024.

A copy of the notification will be available for public inspection in the “Online FTZ Information System” section of the Board's website.

For further information, contact Kolade Osho at Kolade.Osho@trade.gov.

Dated: July 9, 2024.
Camille R. Evans,
Acting Executive Secretary.

[FR Doc. 2024-15444 Filed 7-12-24; 8:45 am]

BILLING CODE 3510-DS-P